FEDERAL COMMUNICATIONS COMMISSION

47 CFR Part 101

[WT Docket No. 02-146; FCC 05-45]

Allocations and Service Rules for the 71-76 GHz, 81-86 GHz, and 92-95 GHz Bands

AGENCY: Federal Communications Commission.

ACTION: Final rule; announcement of effective date.

SUMMARY: On December 7, 2005, the Office of Management and Budget (OMB) approved the information collection requirements contained in § 101.1523(b) pursuant to OMB Control No. 3060-1070. The Memorandum Opinion and Order, released on March 3, 2005, FCC 05-45, stated that the revision to 47 CFR 101.1523(b) will be effective upon OMB approval. This document announces the effective date of that published rule. Accordingly, the information collection requirements contained in that rule became effective on December 7, 2005.

DATES: The revision to § 101.1523(b) published at 70 FR 29985, May 25, 2005, became effective on December 7, 2005.

FOR FURTHER INFORMATION CONTACT: David Hu, Esq., Wireless Telecommunications Bureau, Broadband Division, at (202) 418-2487.

SUPPLEMENTARY INFORMATION: In a Memorandum Opinion and Order, released on March 3, 2005, FCC 05-45, and published in the Federal Register on May 25, 2005, 70 FR 29985, the Commission revised its Allocations and Service Rules for the 71-76 GHz, 81-86 GHz, and 92-95 GHz Bands, requiring licensees, as part of the link registration process, to submit to the database manager an analysis under the interference protection criteria. This interference analysis requirement is a new and modified information collection, previously approved by OMB (OMB Control No. 3060-1070), and implements the revised § 101.1523(b) of the Commission's rules as published in the Federal Register on May 25, 2005.

Federal Communications Commission.
William F. Caton,
Deputy Secretary.

[FR Doc. 05-24621 Filed 12-28-05; 8:45 am]

BILLING CODE 6712-01-P